DEPARTMENT OF LABOR

Office of the Assistant Secretary for Veterans' Employment and Training

The Advisory Committee on Veterans' Employment, Training and Employer Outreach (ACVETEO); Notice of Open Meeting

The Advisory Committee on Veterans' Employment, Training and Employer Outreach (ACVETEO) was established pursuant to Title II of the Veterans' Housing Opportunity and Benefits Improvement Act of 2006 (Pub. L. 109-233) and Section 9 of the Federal Advisory Committee Act (FACA) (Pub. L. 92-462, Title 5 U.S.C. app.II). The ACVETEO's authority is codified in Title 38 U.S. Code, Section 4110.

The ACVETEO is responsible for assessing employment and training needs of veterans; determining the extent to which the programs and activities of the Department of Labor meet these needs; and assisting in carrying out outreach to employers seeking to hire veterans.

The Advisory Committee on Veterans' Employment, Training and Employer Outreach will visit and participate in transition programs at area military installations on Thursday, July 24. The business meeting is on Friday, July 25, from 7:30 a.m. to 2 p.m. at the Doubletree Hotel, 11915 El Camino Real, San Diego/Del Mar, California.

The committee will discuss programs assisting veterans seeking employment and raising employer awareness as to the advantages of hiring veterans with special emphasis on employer outreach and wounded and injured veterans.

Individuals needing special accommodations should notify Bill Offutt at (202) 693-4717 by July 16, 2008.

Signed in Washington, DC, this 16th day of June, 2008.
John M. McWilliam,
Deputy Assistant Secretary,Veterans Employment and Training Service.

[FR Doc. E8-14307 Filed 6-24-08; 8:45 am]

BILLING CODE 4510-79-P